DEPARTMENT OF THE INTERIOR

National Park Service

Notice of Meeting for the Niobrara Scenic River Advisory Commission

AGENCY: National Park Service, Department of the Interior.

ACTION: Notice of meeting for the Niobrara Scenic River Advisory Commission.

SUMMARY: This notice sets the schedule for the forthcoming meeting of the Niobrara Scenic River Advisory Commission. Notice of this meeting is required under the Federal Advisory Committee Act (Public Law 92-463).

Meeting Date and Time: May 10, 2001, 1 p.m.

ADDRESSES: Peppermill Restaurant Meeting Room, 112 North Main Street, Valentine, Nebraska.

Recognize presence of Associate Regional Director Al Hutchings, Planning, Compliance, and Legislation, Midwest Region, National Park Service.

Agenda: (1) Presentation by the National Park Service (NPS) of proposed management alternatives in a new general management plan (GMP) for the Niobrara National Scenic River (NSR); (2) Presentation by the National Park Service of boundary alternatives for the Niobrara NSR; (3) Presentation by the NPS of the planning timetable, including release of a draft plan, final plan, and record of decision of a court-ordered rewrite of the Niobrara NSR GMP environmental impact statement; (4) Public comment.

The meeting is open to the public. Interested persons may make oral or written presentations to the Commission or file written statements. Requests for time to making presentations may be made to the Superintendent prior to the meeting or to the Chairman at the beginning of the meeting. In order to accomplish the meeting agenda, the Chairman may want to limit or schedule public presentations.

The meeting will be recorded for documentation and a written summary prepared for dissemination. Copies of the summary may be requested by contacting the Superintendent. An audiotape of the meeting will be available at the headquarters office of the Niobrara National Scenic River in O'Neill, Nebraska.

FOR FURTHER INFORMATION CONTACT: Superintendent Paul Hedren, Niobrara National Scenic River, P.O. Box 591, O'Neill, Nebraska 68763-0591, or at 402-336-3970.

SUPPLEMENTARY INFORMATION: The Niobrara Scenic River Advisory Commission was established by Public Law 102-50 creating the Niobrara NSR. The purpose of the commission, according to its charter, is to advise the Secretary of the Interior on matters pertaining to the development of a management plan, and management and operation of the Niobrara NSR. The Niobrara NSR consists of a segment of the Niobrara River in north-central Nebraska from the Borman Bridge, southeast of Valentine, Nebraska, downriver 76 miles to Nebraska Highway 137.

Dated: March 12, 2001.
David N. Given,
Acting Regional Director.

[FR Doc. 01-8686 Filed 4-6-01; 8:45 am]

BILLING CODE 4310-70-P